DEPARTMENT OF THE INTERIOR

Bureau of Land Management

[LLES956000-L14200000-BJ0000-LXSITRST0000]

Eastern States: Filing of Plat of Survey

AGENCY: Bureau of Land Management, Interior.

ACTION: Notice of Filing of Plats of Survey; Wisconsin and Minnesota.

SUMMARY: The Bureau of Land Management (BLM) will file the plats of survey of the lands described below in the BLM-Eastern States Office in Springfield, Virginia, 30 calendar days from the date of publication in the Federal Register.

FOR FURTHER INFORMATION CONTACT: Bureau of Land Management-Eastern States, 7450 Boston Boulevard, Springfield, Virginia 22153. Attn: Cadastral Survey.

SUPPLEMENTARY INFORMATION: The surveys were requested by the Bureau of Indian Affairs.

The lands surveyed are:

Fourth Principal Meridian, Wisconsin

The plat of survey represents the dependent resurvey of a portion of the North boundary, a portion of the subdivisional lines, and the subdivision of sections 4, 5, 6, 7, 8, 9, 17, and 18, of Township 38 North, Range 8 West, of the Fourth Principal Meridian, in the State of Wisconsin, and was accepted September 23, 2009.

Fifth Principal Meridian, Minnesota

The plat of survey represents the dependent resurvey of a portion of the East boundary, a portion of the subdivisional lines, and the dependent resurvey and survey of the subdivision of Sections 13, 15, 25, and 33, of Township 146 North, Range 40 West, of the Fifth Principal Meridian, in the State of Minnesota, and was accepted September 30, 2009.

We will place copies of the plats we described in the open files. They will be available to the public as a matter of information.

If BLM receives a protest against a survey, as shown on the plat, prior to the date of the official filing, we will stay the filing pending our consideration of the protest.

We will not officially file a plat until the day after we have accepted or dismissed all protests and they have become final, including decisions on appeals.

Dated: October 30, 2009.
Dominica Van Koten,
Chief Cadastral Surveyor.

[FR Doc. E9-26671 Filed 11-4-09; 8:45 am]

BILLING CODE 4310-GJ-P